DEPARTMENT OF COMMERCE

International Trade Administration

[C-570-999]

Countervailing Duty Investigation of 1,1,1,2-Tetrafluoroethane From the People's Republic of China: Amended Affirmative Preliminary Determination

AGENCY: Enforcement and Compliance, International Trade Administration, Department of Commerce.

SUMMARY: The purpose of this amended affirmative preliminary determination is to correct a significant ministerial error in the preliminary determination, published on April 18, 2014, that countervailable subsidies are being provided to producers and exporters of 1,1,1,2 tetrafluoroethane (“tetrafluoroethane”) from the People's Republic of China (“PRC”).

DATES: Effective Date: May 30, 2014.

FOR FURTHER INFORMATION CONTACT: Katie Marksberry and Alexis Polovina, AD/CVD Operations, Office V, Enforcement and Compliance, International Trade Administration, U.S. Department of Commerce, 14th Street and Constitution Avenue NW., Washington, DC 20230; telephone 202.482.7906 or 202.482.3927, respectively.

SUPPLEMENTARY INFORMATION: On April 18, 2014, we published our preliminary determination stating that countervailable subsidies are being provided to producers and exporters of tetrafluoroethane from the PRC.¹ On April 21, 2014, T.T. International Co., Ltd. (“T.T. International”) and Zhejiang Quhua Fluor-Chemistry Co., Ltd., a Chinese exporter of subject merchandise, and its cross-owned affiliates (collectively “JUHUA”) (“respondents”), and Weitron International Refrigeration Equipment (Kunshan) Co., Ltd., an exporter of subject merchandise, and its affiliated U.S. reseller, Weitron, Inc. (collectively “Weitron”) filed timely allegations of significant ministerial errors contained in the Department's Preliminary Determination. After reviewing the allegations, we determine that the Preliminary Determination included a significant error. Therefore, we made changes, as described below, to the Preliminary Determination.

¹ See Countervailing Duty Investigation of 1,1,1,2 Tetrafluoroethane from the People's Republic of China: Preliminary Determination and Alignment of Final Determination with Final Antidumping Determination, 79 FR 21895 (April 18, 2014) (“Preliminary Determination”).

Scope of the Investigation

The product subject to this investigation is 1,1,1,2-Tetrafluoroethane, R-134a, or its chemical equivalent, regardless of form, type, or purity level. The chemical formula for 1,1,1,2-tetrafluoroethane is CF3-CH2F, and the Chemical Abstracts Service (“CAS”) registry number is CAS 811-97-2.

1,1,1,2-Tetrafluoroethane is sold under a number of trade names including Klea 134a and Zephex 134a (Mexichem Fluor); Genetron 134a (Honeywell); Suva 134a, Dymel 134a, and Dymel P134a (DuPont); Solkane 134a (Solvay); and Forane 134a (Arkema). Generically, 1,1,1,2-tetrafluoroethane has been sold as Fluorocarbon 134a, R-134a, HFC-134a, HF A-134a, Refrigerant 134a, and UN3159.

Merchandise covered by the scope of this investigation is currently classified in the Harmonized Tariff Schedule of the United States (“HTSUS”) at subheading 2903.39.2020. Although the HTSUS subheading and CAS registry number are provided for convenience and customs purposes, the written description of the scope is dispositive.

Analysis of Alleged Significant Ministerial Error Allegation

A ministerial error is defined in 19 CFR 351.224(f) as “an error in addition, subtraction, or other arithmetic function, clerical error resulting from inaccurate copying, duplication, or the like, and any other similar type of unintentional error which the Secretary considers ministerial.” With respect to preliminary determinations, 19 CFR 351.224(e) provides that the Department “will analyze any comments received and, if appropriate, correct any significant ministerial error by amending the preliminary determination. . .” A significant ministerial error is defined as an error, the correction of which, singly or in combination with other errors, would result in: (1) A change of at least five absolute percentage points in, but not less than 25 percent of, the countervailable subsidy rate calculated in the original (erroneous) preliminary determination; or (2) a difference between a countervailable subsidy rate of zero (or de minimis) and a countervailable subsidy rate of greater than de minimis or vice versa.²

² See 19 CFR 351.224(g).

As explained further in the Ministerial Error Memorandum issued concurrently with this Notice,³ we determine that the Preliminary Determination contained an error with respect to our calculation of “tier two” world market benchmark prices for measuring the adequacy of remuneration for the provision of acidspar to respondents pursuant to 19 CFR 351.511(a)(2)(ii). Correction of this error results in a change to the preliminary subsidy rate for T.T. International of more than five absolute points and not less than 25 percent of the originally calculated margin. Thus, the error is significant for T.T. International within the meaning of 19 CFR 351.224(g).⁴

³ See Memorandum to Paul Piquado, Assistant Secretary for Enforcement and Compliance, from James C. Doyle, Director, Office V, through Christian Marsh, Deputy Assistant Secretary for Antidumping and Countervailing Duty Operations, entitled, “Allegation of a Significant Ministerial Error in the Preliminary Determination,” dated concurrently with this notice for the analysis performed (“Ministerial Error Memorandum”). This memorandum is on file electronically via Enforcement and Compliance's Antidumping and Countervailing Duty Centralized Electronic Service System (“IA ACCESS”). IA ACCESS is available to registered users at http://iaaccess.trade.gov, and is available to all parties in the Department's Central Records Unit in Room 7046 of the Department of Commerce building.

⁴ Id.

Amended Preliminary Determination

The Department determines that there was a significant ministerial error in the subsidy rate calculated for T.T. International in the Preliminary Determination. Consequently, we are amending the preliminary countervailing duty rate calculation for T.T. International pursuant to 19 CFR 351.224(e). In addition, the preliminary “All Others” rate was based on the simple average of the subsidy rates calculated for T.T. International and Zhejiang Quhua Fluor-Chemistry Co., Ltd., and its cross-owned affiliates (collectively “JUHUA”). Thus, we are also amending the “All Others” rate to account for the change in T.T. International's subsidy rate. Specifically, we are calculating the simple average of the corrected subsidy rate for T.T. International and the subsidy rate for JUHUA, unchanged from the Preliminary Determination. The rate for Jiangsu Bluestar Green Technology Co., Ltd. remains unchanged.

As a result, the amended preliminary net countervailable subsidy rates are as follows:

Company | Subsidy rate (percent)
T.T. International Co., Ltd | 16.18
JUHUA (including Zhejiang Quhua Fluor-Chemistry Co., Ltd., and other Juhua Stock Companies) | 4.04
Jiangsu Bluestar Green Technology Co., Ltd | 1.35
All Others | 10.11

Suspension of Liquidation

The collection of cash deposits and suspension of liquidation will be revised, in accordance with section 703(d) and (f) of the Tariff Act of 1930, as amended (the “Act”). Specifically, we will instruct U.S. Customs and Border Protection (“CBP”) to continue to suspend liquidation and to require a cash deposit in the amounts indicated above, on all entries of tetrafluoroethane from the PRC that are entered, or withdrawn from warehouse, for consumption on or after the date of publication of this notice in the Federal Register.

International Trade Commission Notification

In accordance with section 703(f) of the Act, we will notify the International Trade Commission (“ITC”) of our determination. In addition, we are making available to the ITC all non-privileged and non-proprietary information relating to this investigation. We will allow the ITC access to all privileged and business proprietary information in our files, provided the ITC confirms that it will not disclose such information, either publicly or under an administrative protective order, without the written consent of the Assistant Secretary for Enforcement and Compliance.

This determination is issued and published pursuant to sections 703(f) and 777(i)(1) of the Act and 19 CFR 351.224(e).

Dated: May 22, 2014.
Paul Piquado,
Assistant Secretary for Enforcement and Compliance.

[FR Doc. 2014-12590 Filed 5-29-14; 8:45 am]

BILLING CODE 3510-DS-P